DEPARTMENT OF ENERGY

Federal Energy Regulatory Commission

Notice of Compliance Filing; Regulation of Short-Term Natural Gas Transportation Services; Docket No. RM98-10-000; Regulation of Interstate Natural Gas Transportation Services, Docket No. RM98-12-000

June 21, 2000.

In the matter of: RP00-331-000, RP00-328-000, RP00-332-000, RP00-323-000, RP00-339-000, RP00-324-000, RP00-347-000, RP00-320-000, RP00-325-000, RP00-327-000, RP00-326-000, RP00-333-000, RP00-346-000, RP00-321-000, RP00-319-000, RP00-344-000, RP00-341-000, RP00-336-000, RP00-322-000, RP00-329-000, RP00-318-000, RP00-337-000, RP00-343-000, RP00-334-000, RP00-340-000, RP00-342-000, RP00-338-000; Algonquin Gas Transmission Company, Algonquin LNG, Inc., ANR Pipeline Company, ANR Storage Company, Arkansas Western Pipeline, L.L.C., Blue Lake Gas Storage Company, Canyon Creek Compression Company, Chandeleur Pipe Line Company, Colorado Interstate Gas Company, Columbia Gas Transmission Company, Columbia Gulf Transmission Company, Crossroads Pipeline Company, Dauphin Island Gathering Partners, Destin Pipeline Company, Discovery Gas Transmission LLC, Dominion Transmission, Inc. (Formerly CNG Transmission Corporation), Egan Hub Partnerships, L.P., El Paso Natural Gas Company, Garden Banks Gas Pipeline, LLC, Great Lakes Gas Transmission Limited Partnership, Kansas Pipeline Company, Kern River Gas Transmission Company, Kinder Morgan Interstate Gas Transmission LLC, KN Wattenberg Transmission L.L.C, Koch Gateway Pipeline Company, MIGC, Inc., Mojave Pipeline Company

Take notice that on June 15 and 16, 2000, the above-referenced pipelines tendered for filing their pro forma tariff sheets respectively, in compliance with Order Nos. 637 and 637-A.

On February 9 and May 19, 2000, the Commission issued Order Nos. 637 and 637-A, respectively, which prescribed new regulations, implemented new policies and revised certain existing regulations respecting natural gas transportation in interstate commerce. The Commission directed pipelines to file pro forma tariff sheets to comply with the new regulatory requirements regarding scheduling procedures, capacity segmentation, imbalance management services and penalty credits, or in the alternative, to explain why no changes to existing tariff provisions are necessary.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before July 17, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-16143 Filed 6-26-00; 8:45 am]

BILLING CODE 6717-01-M